DEPARTMENT OF DEFENSE

Department of the Army, Corps of Engineers

Notice of Intent To Prepare a Draft Environment Impact Statement for the Proposed Prado Basin, California Feasibility Study, City of Corona, Riverside County, CA

AGENCY: Department of the Army, U.S. Army Corps of Engineers, DoD.

ACTION: Notice of Intent.

SUMMARY: The Los Angeles District of the U.S. Army Corps of Engineers (Corps) and Orange County Water District (OCWD), the non-Federal sponsor for the project, intend to jointly prepare an Environmental Impact Statement/Environmental Impact Report (EIS/EIR) to study, plan, and implement a multifaceted project to restore environmental resources and conserve water within Prado Basin and downstream of the Prado Dam, within the Santa Ana River. This effort will focus on restoring aquatic, wetland, and riparian habitats for endangered and otherwise associated native species, conserving water and resolving issues related to the alteration of the natural sediment transport regime.

ADDRESSES: Christopher T. Jones, U.S. Army Corps of Engineers, Los Angeles District, Ecosystem Planning Section, CESPL-PD-RN, P.O. Box 532711, Los Angeles, CA 90053-2325.

FOR FURTHER INFORMATION CONTACT: Christopher T. Jones, Biologist, Christopher.T.Jones@usace.army.mil, 213-304-6234.

SUPPLEMENTARY INFORMATION: The Prado Basin, California study was authorized by a study resolution dated May 8, 1964, the Committee on Public Works, U.S. House of Representatives (House Document No. 135, 81st Congress, 1st Session). It was additionally authorized by Section 401(a) of the Water Resources Development Act of 1986.

The U.S. Army Corps of Engineers (USACE) previously conducted a Reconnaissance Phase Study of the Santa Ana River Basin and Orange County Streams, California. Ecosystem restoration and water conservation problems were identified as having a Federal interest. The study did not identify sediment management as a Federal interest to address at that time. However, sediment management has been determined to contribute to ecosystem restoration goals and is a planning objective of the study.

1. Project Description. The proposed feasibility study will investigate alternatives to restore environmental resources, conserve water and resolve issues related to alterations to the natural sediment transport regime in the Santa Ana River.

Preliminary objectives for this study were based on identification and consideration of problems, needs and opportunities in the areas associated with ecosystem restoration and watershed development. The establishment of these objectives focused primarily on the authorized study purpose of determining the Federal interest in ecosystem restoration in Prado Basin. However, related problems and needs in the study area were also given consideration.

The first objective is to restore environmental resources in the study area, which would contribute to the National Ecosystem Restoration (NER) Federal objective. The efficiency of the restoration would be measured in the increases in the net quantity and/or quality of desired ecosystem resources.

A second objective is to provide a more efficient means of meeting the study area's water demands. The efficiency of meeting these water demands is measured in the cost of providing the needed water supplies. A reduced cost in providing water supply as compared to the without project condition would result in savings to the nation's economic development (NED).

A third objective is to improve sediment management and sediment transport in the study area. Improvements to sediment management and transport could result in habitat, water supply and flood risk reduction benefits.

2. Alternatives. Several potential measures have been discussed that may meet the objectives of this study. Measures will be grouped into discrete alternatives and analyzed in the EIS/EIR. These potential measures include, but are not limited to, wetland and riparian habitat creation, restoration of stream banks through bio-engineering, creation of perennial stream habitat for the Santa Ana sucker, removal of non-native vegetation, eradication of non-native fish species, enhancement of habitats and structures to facilitate wildlife movement, dredging sediment, sluicing sediment past Prado Dam, fish passage structures, passage of sediment through the dam's spillway via various means, re-operate dam for water conservation year-round at 505 feet in elevation, and to re-operate the dam for water conservation at a level higher than 498 feet elevation, but lower than 505 feet in elevation. This initial list of potential measures may be enhanced by input received at public meetings.

3. Scoping. a. The Corps intends to hold a public scoping meeting(s) for the EIS/EIR to aid in the determination of significant environmental issues associated with the proposed project. Affected federal, state and local resource agencies, Native American groups and concerned interest groups/individuals are encouraged to participate in the scoping process. Public participation is critical in defining the scope of analysis in the Draft EIS/EIR, identifying significant environmental issues in the Draft EIS/EIR, providing useful information such as published and unpublished data, and knowledge of relevant issues and recommending mitigation measures to offset potential impacts from proposed actions. The time and location of the public scoping meeting will be advertised in letters, public announcements and news releases.

b. Potential impacts associated with the proposed project will be fully evaluated. Resource categories that will be analyzed include: physical environment, geology, biological resources, air quality, water quality, recreational usage, aesthetics, cultural resources, transportation, noise, hazardous waste, socioeconomics and safety.

c. Individuals and agencies may offer information or data relevant to the environmental or socioeconomic impacts of the proposed project by submitting comments, suggestions, and requests to be placed on the mailing list for announcements by sending correspondence to the address listed above, or to the following email address: christopher.t.jones@usace.army.mil.

d. The project will require certification under Section 401 of the Clean Water Act from the Regional Water Quality Control Board. Depending upon the recommended alternative, the project may also require additional real property rights for construction and operation of a facility, compliance with Federal and State Endangered Species Acts, and relevant Department of California Fish and Game Code.

4. Public Scoping Meeting: A public scoping meeting will be held at the Inland Empire Utilities Agency (IEUA) Events Center on Wednesday, November 28, 2012, from 2:00 p.m. to 8:00 p.m. The project will be presented twice during this open house style meeting. The address for the IEUA Events Center is: Inland Empire Utilities Agency, 6075 Kimball Avenue, Chino, CA 91708, Phone: (909) 993-1600.

5. The Draft EIS/EIR is scheduled to be published and circulated for public review in May 2014.

Brenda S. Bowen,
Army Federal Register Liaison Officer.

[FR Doc. 2012-27756 Filed 11-15-12; 8:45 am]

BILLING CODE 3720-58-P